BUREAU OF CONSUMER FINANCIAL PROTECTION

Academic Research Council Meeting

AGENCY: Bureau of Consumer Financial Protection.

ACTION: Notice of public meeting.

SUMMARY: Under the Federal Advisory Committee Act (FACA), this notice sets forth the announcement of a public meeting of the Academic Research Council (ARC or Council) of the Consumer Financial Protection Bureau (Bureau). The notice also describes the functions of the Council. This notice is being published less than 15 days prior to the meeting date due to administrative delays.

DATES: The meeting date is Wednesday, May 2, 2018, 1:00 p.m. to 4:30 p.m. eastern standard time.

ADDRESSES: The meeting location is Consumer Financial Protection Bureau, 1700 G Street NW, Washington, DC 20552.

FOR FURTHER INFORMATION CONTACT: Emily Turner, Director's Financial Analyst, at 202-435-7730, CFPB_AcademicResearchCouncil@cfpb.gov, Academic Research Council, Office of Research, 1700 G Street NW, Washington, DC 20552. If you require this document in an alternative electronic format, please contact CFPB_Accessibility@cfpb.gov.

SUPPLEMENTARY INFORMATION:

I. Background

Section 1013(b)(1) of the Consumer Financial Protection Act, 12 U.S.C. 5493(b)(1), establishes the Office of Research (OR) and assigns to it the responsibility of researching, analyzing, and reporting on topics relating to the Bureau's mission, including developments in markets for consumer financial products and services, consumer awareness, and consumer behavior. The Academic Research Council is a consultative body comprised of scholars that help the Office of Research perform these responsibilities. Section 3 of the ARC Charter states:

The Council will provide the Bureau's Office of Research technical advice and feedback on research methodologies, data collection strategies, and methods of analysis. Additionally, the Council will provide both backward- and forward-looking feedback on the Office of Research's research work and will offer input into its research strategic planning process and research agenda.

II. Agenda

The Academic Research Council will discuss methodology and direction for consumer finance research at the Bureau.

Persons who need a reasonable accommodation to participate should contact CFPB_504Request@cfpb.gov, 202-435-9EEO, l-855-233-0362, or 202-435-9742 (TTY) at least ten business days prior to the meeting or event to request assistance. The request must identify the date, time, location, and title of the meeting or event, the nature of the assistance requested, and contact information for the requester. The Bureau will strive to provide, but cannot guarantee that accommodation will be provided for late requests.

Written comments will be accepted from interested members of the public and should be sent to CFPB_AcademicResearchCouncil@cfpb.gov, a minimum of seven (7) days in advance of the meeting. The comments will be provided to the ARC members for consideration. Individuals who wish to attend the Academic Research Council meeting must RSVP to CFPB_AcademicResearchCouncil@cfpb.gov, by noon, May 1, 2018. Members of the public must RSVP by the due date and must include “ARC” in the subject line of the RSVP.

III. Availability

The Council's agenda will be made available to the public on April 24, 2018, via consumerfinance.gov. Individuals should express in their RSVP if they require a paper copy of the agenda.

A recording and transcript of this meeting will be available after the meeting on the Bureau's website consumerfinance.gov.

Dated: April 20, 2018.
Kirsten Sutton,
Chief of Staff, Bureau of Consumer Financial Protection.

[FR Doc. 2018-08716 Filed 4-25-18; 8:45 am]

BILLING CODE 4810-AM-P